DEPARTMENT OF LABOR

Employment and Training Administration

[TA-W-62,063]

Tubafor Mill, Inc., Also Known as TMI Forest Products, Morton, Washington; Notice of Termination of Investigation

Pursuant to Section 221 of the Trade Act of 1974, as amended, an investigation was initiated on August 29, 2007 in response to a worker petition filed by the Carpenters Industrial Council, Local #2767 on behalf of workers of Tubafor Mill, Inc., also known as TMI Forest Products, Morton, Washington.

The petitioner has requested that the petition be withdrawn. Consequently, the investigation has been terminated.

Signed at Washington, DC this 20th day of September 2007.
Linda G. Poole,
Certifying Officer, Division of Trade Adjustment Assistance.

[FR Doc. E7-19030 Filed 9-26-07; 8:45 am]

BILLING CODE 4510-FN-P